DEPARTMENT OF AGRICULTURE

Submission for OMB Review; Comment Request

June 20, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by July 24, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Citrus Canker; Interstate Movement of Regulated Nursery Stock and Fruit from Quarantined Areas.

OMB Control Number: 0579-0317.

Summary of Collection: Under the Plant Protection Act (7 U.S.C. 7701, et seq.), the Secretary of Agriculture, either independently or in cooperation with the Sates, is authorized to carry out operations or measures to detect, eradicate, suppress, control, prevent, or retard the spread of plant pests (such as citrus canker) new to or widely distributed throughout the United States. The Animal and Plant Health Inspection Service (APHIS) has regulations in place to prevent the interstate spread of citrus canker. These regulations, contained in 7 CFR 301.75, restrict the interstate movement of regulated articles from and through areas quarantined because of citrus canker. APHIS' citrus canker quarantine regulations prohibit the interstate movement of regulated nursery stock from a quarantined area. The interstate movement of nursery stock from an area quarantined for citrus canker poses an extremely high risk of spreading citrus canker outside the quarantined area.

Need and Use of the Information: APHIS will collect information through compliance agreements and limited permits. Failure to collect this information could cause a severe economic loss to the citrus industry.

Description of Respondents: Businesses or other for-profit.

Number of Respondents: 400.

Frequency of Responses: Reporting: On occasion.

Total Burden Hours: 2,742.

Animal and Plant Health Inspection Service

Title: Importation of Potatoes from Mexico.

OMB Control Number: 0579-0413.

Summary of Collection: Under the Plant Protection Act (7 U.S.C. 7701, et seq.), the Secretary of Agriculture is authorized to prohibit or restrict the importation, entry, or movement of plants, and plant pests to prevent the introduction of plant pests into the United States or their dissemination within the United States. The regulations in “Subpart-Fruit and Vegetables” (7 CFR 319.56, referred to as the regulations) prohibit or restrict the importation of fruits and vegetables into the United States from certain parts of the world to prevent the introduction and dissemination of plant pests that are new to or not widely distributed within the United States. APHIS regulations concerning the importation of fruits and vegetables allow the importation of fresh potatoes (Solanum tuberosum L.) from Mexico into the United States. As a condition of entry, the potatoes have to be produced in accordance with a systems approach employing a combination of mitigation measures.

Need and Use of the Information: APHIS will use the following information collection activities to allow the importation of potatoes from Mexico while continuing to protect against the introduction of plant pests into the United States: (1) Bilateral workplan, (2) grower registration certification, (3) packinghouse registration, (4) inspection and agricultural seal, (5) foreign phytosanitary certificate, and (6) surveys. Failure to collect this information would cripple APHIS' ability to ensure that potatoes from Mexico are not carrying plant pests.

Description of Respondents: Businesses or other for-profit; Foreign Federal Government.

Number of Respondents: 19.

Frequency of Responses: Reporting: On occasion.

Total Burden Hours: 236.

Ruth Brown,
Departmental Information Collection Clearance Officer.

[FR Doc. 2017-13114 Filed 6-22-17; 8:45 am]

BILLING CODE 3410-34-P